DEPARTMENT OF TRANSPORTATION

Federal Aviation Administration

First Meeting: RTCA Special Committee 228—Minimum Operational Performance Standards for Unmanned Aircraft Systems

AGENCY: Federal Aviation Administration (FAA), U.S. Department of Transportation (DOT).

ACTION: Notice of RTCA Special Committee 228—Minimum Operational Performance Standards for Unmanned Aircraft Systems.

SUMMARY: The FAA is issuing this notice to advise the public of a meeting of RTCA Special Committee 228—Minimum Operational Performance Standards for Unmanned Aircraft Systems.

DATES: The meeting will be held July 30, 2013, from 9:00 a.m. to 5:00 p.m.

ADDRESSES: The meeting will be held at RTCA, 1150 18th Street NW., Suite 910, Washington, DC 20036.

FOR FURTHER INFORMATION CONTACT: The RTCA Secretariat, 1150 18th Street NW., Suite 910, Washington, DC 20036, or by telephone at (202) 330-0662 or (202) 833-9339, fax at (202) 833-9434, or Web site at http://www.rtca.org.

SUPPLEMENTARY INFORMATION: Pursuant to section 10(a) (2) of the Federal Advisory Committee Act (Pub. L. No. 92-463, 5 U.S.C., App.), notice is hereby given for a meeting of RTCA Special Committee 228—Minimum Operational Performance Standards for Unmanned Aircraft Systems. The agenda will include the following:

Wednesday, July 30

• Welcome and Introductions.

• Agenda Overview.

• RTCA Overview.

○ Background on RTCA, MOPS, and Process.

• Review of RTCA PMC UAS Standards Ad Hoc Committee Activity.

• SC-228 Scope and Terms of Reference.

• SC-228 Structure and Organization of Work.

○ Working Group 1—Detect and Avoid (DAA)

○ Working Group 2—Command and Control (C2)

• Other Business

• Date and Place of Next Meeting.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 6, 2013.
Paige L. Williams,
Management Analyst, Business Operations Group, ANG-A12, Federal Aviation Administration.

[FR Doc. 2013-15139 Filed 6-24-13; 8:45 am]

BILLING CODE 4910-13-P